DEPARTMENT OF HOMELAND SECURITY

Federal Emergency Management Agency

[Docket ID FEMA-2014-0002; Internal Agency Docket No. FEMA-B-1435]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Arizona:
Maricopa | City of Scottsdale (14-09-0808P) | The Honorable Jim Lane, Mayor, City of Scottsdale, 3939 North Drinkwater Boulevard, Scottsdale, AZ 85251 | City Hall, 3939 North Drinkwater Boulevard, Scottsdale, AZ 85251 | http://www.msc.fema.gov/lomc | October 17, 2014 | 045012
Maricopa | Town of Queen Creek (14-09-1090P) | The Honorable Gail Barney, Mayor, Town of Queen Creek, 22350 South Ellsworth Road, Queen Creek, AZ 85142 | Town Hall, 22350 South Ellsworth Road, Queen Creek, AZ 85142 | http://www.msc.fema.gov/lomc | October 24, 2014 | 040132
Maricopa | Unincorporated areas of Maricopa County (14-09-1090P) | The Honorable Denny Barney, Chairman, Maricopa County Board of Supervisors, 301 West Jefferson, 10th Floor, Phoenix, AZ 85003 | Maricopa County Flood Control District, 2801 West Durango Street, Phoenix, AZ 85009 | http://www.msc.fema.gov/lomc | October 24, 2014 | 040037
California:
Orange | City of Newport Beach (14-09-2874P) | The Honorable Rush N. Hill, II, Mayor, City of Newport Beach, 100 Civic Center Drive, Newport Beach, CA 92660 | City Hall, 100 Civic Center Drive, Newport Beach, CA 92660 | http://www.msc.fema.gov/lomc | October 30, 2014 | 060227
San Diego | Unincorporated areas of San Diego County (14-09-0364P) | The Honorable Dianne Jacob, Chair, San Diego County Board of Supervisors, 1600 Pacific Highway, San Diego, CA 92101 | San Diego County Department of Public Works, Flood Control Division, 5510 Overland Avenue, Suite 410, San Diego, CA 92123 | http://www.msc.fema.gov/lomc | October 16, 2014 | 060284
Colorado:
Boulder | City of Longmont (14-08-0987P) | The Honorable Dennis L. Coombs, Mayor, City of Longmont, 350 Kimbark Street, Longmont, CO 80501 | Service Center, 1100 South Sherman Street, Longmont, CO 80501 | http://www.msc.fema.gov/lomc | October 22, 2014 | 080027
Jefferson | City of Arvada (14-08-0099P) | The Honorable Marc Williams, Mayor, City of Arvada, P.O. Box 8101, Arvada, CO 80001 | City Hall, 8101 Ralston Road, Arvada, CO 80001 | http://www.msc.fema.gov/lomc | October 17, 2014 | 085072
Florida:
Broward | City of Fort Lauderdale (14-04-1663P) | The Honorable John P. “Jack” Seiler, Mayor, City of Fort Lauderdale, 100 North Andrews Avenue, Fort Lauderdale, FL 33301 | City Hall, 100 North Andrews Avenue, Fort Lauderdale, FL 33301 | http://www.msc.fema.gov/lomc | November 6, 2014 | 125105
Charlotte | Unincorporated areas of Charlotte County, (14-04-2502P) | The Honorable Ken Doherty, Chairman, Charlotte County Board of Commissioners, 18500 Murdock Circle, Port Charlotte, FL 33948 | Charlotte County Community Development Department, 18500 Murdock Circle, Port Charlotte, FL 33948 | http://www.msc.fema.gov/lomc | October 16, 2014 | 120061
Duval | City of Jacksonville (14-04-2078P) | The Honorable Alvin Brown, Mayor, City of Jacksonville, 117 West Duval Street, Jacksonville, FL 32202 | City Hall, 117 West Duval Street Jacksonville, FL 32202 | http://www.msc.fema.gov/lomc | October 27, 2014 | 120077
Manatee and Sarasota | Town of Longboat Key (14-04-3983P) | The Honorable Jim Brown, Mayor, Town of Longboat Key, 501 Bay Isles Road, Longboat Key, FL 34228 | Planning, Zoning, and Building Department, 501 Bay Isles Road, Longboat Key, FL 34228 | http://www.msc.fema.gov/lomc | October 30, 2014 | 125126
Monroe | Unincorporated areas of Monroe County (14-04-4077P) | The Honorable Sylvia Murphy, Mayor, Monroe County, 1100 Simonton Street, Key West, FL 33040 | Monroe County Planning and Environmental Resources Department, 2798 Overseas Highway, Marathon, FL 33050 | http://www.msc.fema.gov/lomc | October 14, 2014 | 125129
Orange | City of Orlando (14-04-3140P) | The Honorable Buddy Dyer, Mayor, City of Orlando, P.O. Box 4990, Orlando, FL 32802 | Permitting Services Department, 400 South Orange Avenue, Orlando, FL 32801 | http://www.msc.fema.gov/lomc | September 5, 2014 | 120186
Orange | Unincorporated areas of Orange County (14-04-0780P) | The Honorable Teresa Jacobs, Mayor, Orange County, 201 South Rosalind Avenue, 5th Floor, Orlando, FL 32801 | Orange County Stormwater Management Department, 4200 South John Young Parkway, Orlando, FL 32839 | http://www.msc.fema.gov/lomc | October 17, 2014 | 120179
Osceola | Unincorporated areas of Osceola County (14-04-0490P) | The Honorable Fred Hawkins, Jr., Chairman, Osceola County Board of Commissioners, 1 Courthouse Square, Suite 4700, Kissimmee, FL 34741 | Osceola County Stormwater Section, 1 Courthouse Square, Suite 1400, Kissimmee, FL 34741 | http://www.msc.fema.gov/lomc | October 17, 2014 | 120189
Polk | Unincorporated areas of Polk County (14-04-2689P) | The Honorable R. Todd Dantzler, Chairman, Polk County Board of Commissioners, P.O. Box 9005, Bartow, FL 33831 | Polk County Engineering Division, 330 West Church Street, Bartow, FL 33831 | http://www.msc.fema.gov/lomc | November 6, 2014 | 120261
Polk | Unincorporated areas of Polk County (14-04-2776P) | The Honorable R. Todd Dantzler, Chairman, Polk County Board of Commissioners, P.O. Box 9005, Bartow, FL 33831 | Polk County Engineering Division, 330 West Church Street, Bartow, FL 33831 | http://www.msc.fema.gov/lomc | October 16, 2014 | 120261
Sarasota | City of Sarasota (14-04-3830P) | The Honorable Willie Charles Shaw, Mayor, City of Sarasota, 1565 1st Street, Sarasota, FL 34236 | City Hall, 1565 1st Street, Sarasota, FL 34236 | http://www.msc.fema.gov/lomc | October 22, 2014 | 125150
Sarasota | City of Sarasota (14-04-5443P) | The Honorable Willie Charles Shaw, Mayor, City of Sarasota, 1565 1st Street, Sarasota, FL 34236 | City Hall, 1565 1st Street, Sarasota, FL 34236 | http://www.msc.fema.gov/lomc | November 13, 2014 | 125150
Sarasota | Unincorporated areas of Sarasota County (14-04-3759P) | The Honorable Charles D. Hines, Chairman, Sarasota County Commission, 1660 Ringling Boulevard, Sarasota, FL 34236 | Sarasota County Stormwater Management Department, 1001 Sarasota Center Boulevard, Sarasota, FL 34240 | http://www.msc.fema.gov/lomc | October 15, 2014 | 125144
Georgia:
Columbia | Unincorporated areas of Columbia County (13-04-7901P) | The Honorable Ron C. Cross, Chairman, Columbia County Board of Commissioners, 630 Ronald Reagan Drive, Building B, Evans, GA 30809 | Columbia County Engineering Division, 630 Ronald Reagan Drive, Building A, Evans, GA 30809 | http://www.msc.fema.gov/lomc | November 10, 2014 | 130059
Columbia | Unincorporated areas of Columbia County (13-04-8279P) | The Honorable Ron C. Cross, Chairman, Columbia County Board of Commissioners, 630 Ronald Reagan Drive, Building B, Evans, GA 30809 | Columbia County Engineering Division, 630 Ronald Reagan Drive, Building A, Evans, GA 30809 | http://www.msc.fema.gov/lomc | October 16, 2014 | 130059
Columbia | Unincorporated areas of Columbia County (13-04-8301P) | The Honorable Ron C. Cross, Chairman, Columbia County Board of Commissioners, 630 Ronald Regan Drive, Building B, Evans, GA 30809 | Columbia County Engineering Division, 630 Ronald Regan Drive, Building A, Evans, GA 30809 | http://www.msc.fema.gov/lomc | November 6, 2014 | 130059
Gwinnett | City of Lilburn (13-04-4606P) | The Honorable Johnny D. Crist, Mayor, City of Lilburn, 76 Main Street, Lilburn, GA 30047 | City Hall, 76 Main Street, Lilburn, GA 30047 | http://www.msc.fema.gov/lomc | October 10, 2014 | 130100
Richmond | Augusta-Richmond County (13-04-2899P) | The Honorable Deke S. Copenhaver, Mayor, Augusta-Richmond County, 75 Conifer Circle, Augusta, GA 30909 | Augusta-Richmond County Planning and Zoning Department, 525 Telfair Street, Augusta, GA 30901 | http://www.msc.fema.gov/lomc | October 17, 2014 | 130158
Nevada:
Clark | City of Henderson (14-09-0094P) | The Honorable Andy Hafen, Mayor, City of Henderson, P.O. Box 95050, Henderson, NV 89009 | Public Works Department, 240 Water Street, Henderson, NV 89015 | http://www.msc.fema.gov/lomc | October 2, 2014 | 320005
Washoe | Unincorporated areas of Washoe County (14-09-1338P) | The Honorable David Humke, Chairman, Washoe County Board of Commissioners, P.O. Box 11130, Reno, NV 89512 | Washoe County Public Works Department, 1001 East 9th Street, Reno, NV 89512 | http://www.msc.fema.gov/lomc | October 20, 2014 | 320019
North Carolina:
Franklin | Unincorporated areas of Franklin County (14-04-1007P) | The Honorable Angela L. Harris, Franklin County Manager, 113 Market Street, Louisburg, NC 27549 | Franklin County Planning and Inspections Office, 215 East Nash Street, Louisburg, NC 27549 | http://www.msc.fema.gov/lomc | October 17, 2014 | 370377
Macon | Unincorporated areas of Macon County (14-04-3043P) | The Honorable Kevin Corbin, Chairman, Macon County Board of Commissioners, 5 West Main Street, Franklin, NC 28734 | Macon County Planning Department, 5 West Main Street, Franklin, NC 28734 | http://www.msc.fema.gov/lomc | October 16, 2014 | 370150
North Dakota: Bowman | City of Bowman (14-08-0180P) | The Honorable Lyn James, President, City of Bowman Commission, P.O. Box 12, Bowman, ND 58623 | Zoning Administrator's Office, 104 1st Street NW, Bowman, ND 58623 | http://www.msc.fema.gov/lomc | October 6, 2014 | 380012
South Carolina:
Aiken | City of North Augusta (13-04-2899P) | The Honorable Lark W. Jones, Mayor, City of North Augusta, 100 Georgia Avenue, North Augusta, SC 29841 | City Hall, 100 Georgia Avenue, North Augusta, SC 29841 | http://www.msc.fema.gov/lomc | October 17, 2014 | 450007
Aiken | Unincorporated areas of Aiken County (13-04-2899P) | The Honorable Ronnie Young, Chairman, Aiken County Council, 220 Deerwood Drive, North Augusta, SC 29841 | Aiken County Planning and Zoning Department, 1680 Richmond Avenue West, North Augusta, SC 29801 | http://www.msc.fema.gov/lomc | October 17, 2014 | 450002
Charleston | Town of Mount Pleasant (14-04-4488P) | The Honorable Linda Page, Mayor, Town of Mount Pleasant, 100 Ann Edwards Lane, Mount Pleasant, SC 29464 | Town Hall, 100 Ann Edwards Lane, Mount Pleasant, SC 29464 | http://www.msc.fema.gov/lomc | November 4, 2014 | 455417
Charleston | Unincorporated areas of Charleston County (14-04-4488P) | The Honorable Teddie E. Pryor, Sr., Chairman, Charleston County Council, 2700 Crestline Drive, North Charleston, SC 29405 | Charleston County Building Services Department, 2700 Crestline Drive, North Charleston, SC 29405 | http://www.msc.fema.gov/lomc | November 4, 2014 | 455413
Richland | City of Columbia (13-04-7561P) | The Honorable Steve Benjamin, Mayor, City of Columbia, P.O. Box 147, Columbia, SC 29217 | Department of Engineering, P.O. Box 147, Columbia, SC 29217 | http://www.msc.fema.gov/lomc | October 27, 2014 | 450172
Richland | Unincorporated areas of Richland County (13-04-7561P) | The Honorable Norman Jackson, Chairman, Richland County Council, P.O. Box 90617, Columbia, SC 29209 | Richland County Courthouse, 1701 Main Street, Columbia, SC 29202 | http://www.msc.fema.gov/lomc | October 27, 2014 | 450170

(Catalog of Federal Domestic Assistance No. 97.022, “Flood Insurance.”)

Dated: August 26, 2014.
Roy E. Wright,
Deputy Associate Administrator for Mitigation, Department of Homeland Security, Federal Emergency Management Agency.

[FR Doc. 2014-21896 Filed 9-12-14; 8:45 am]

BILLING CODE 9110-12-P